GENERAL SERVICES ADMINISTRATION

Privacy Act of 1974; Notice of Updated Systems of Records

AGENCY: General Services Administration.

ACTION: Notice.

SUMMARY: GSA reviewed its Privacy Act systems to ensure that they are relevant, necessary, accurate, up-to-date, and covered by the appropriate legal or regulatory authority. This notice is a compilation of the revised and cancelled notices. The notice includes thirteen revised GSA-wide system of records notices that update administrative changes, including system managers, office titles, addresses, or locations; and cancellation of eighteen obsolete systems of records.

DATES: Effective August 21, 2006.

FOR FURTHER INFORMATION CONTACT: Call or e-mail the GSA Privacy Act Officer: telephone 202-501-1452; e-mail gsa.privacyact@gsa.gov.

ADDRESSES: GSA Privacy Act Officer (CIB), General Services Administration, 1800 F Street, NW., Washington, DC 20405.

SUPPLEMENTARY INFORMATION: GSA undertook and completed an agency-wide review of its Privacy Act systems of records. As a result of the review, GSA is publishing updated Privacy Act systems of records notices and canceling obsolete systems. Rather than make numerous piecemeal revisions, GSA is republishing updated notices for thirteen of its systems and canceling eighteen. Nothing in the revised system notices indicates a change in authorities or practices regarding the collection and maintenance of information. Nor do the changes impact individuals' rights to access or amend their records in the systems of records.

The table of contents provides a list of the revised notices included in this publication and the cancelled notices. (See attached.)

Dated: August 14, 2006.
June V. Huber,
Director, Office of Information Management.

Table of Contents

List of Revised Notices

GSA/PPFM-1 Disbursement and Accounts Payable Files

GSA/PPFM-3 Travel System

GSA/PPFM-6 Employee Credit Reports

GSA/PPFM-7 Credit Data on Individual Debtors

GSA/PPFM-8 Comprehensive Human Resources Integrated System (CHRIS)

GSA/PPFM-9 Payroll Accounting and Reporting (PAR) System

GSA/PPFM-10 Purchase Card Program

GSA/OEA-1 Records of Defunct Agencies

GSA/REGADM-4 Official Correspondence Files

GSA/FSS-13 Personal Property Sales Program

GSA/Childcare-1 GSA Child Care Subsidy

GSA/Transit-1 Transportation Benefits Records

GSA/Gov-4 Contracted Travel Services Program

List of Cancelled Notices

GSA/HRO-6 Listing of Physicians

GSA/HRO-7 Motor Vehicle Operator Applications

GSA/HRO-38 Citizens' Commission on Public Service and Compensation (CCPSC) Candidate and Alternate Member Files

GSA/PPFM-5 Payroll, Time, and Attendance Reporting System

GSA/OGC-2 Attorney Placement

GSA/OGC-4 General Law Files

GSA/OGC-6 Potential Employee Referrals

GSA/REGADM-3 Biographical Sketches

GSA/REGADM-6 Ridesharing System

GSA/PBS-3 Incident Reporting, Investigation, Contingency

Planning/Analysis, and Security Case Files

GSA/ADTS-1 Classified Control Files

GSA/ADTS-2 Congressional Files

GSA/ADTS-4 Emergency Notification Files

GSA/ADTS-5 Financial Management Files

GSA/ADTS-7 Workload Measurement Files

GSA/ADTS-8 Special Purpose Telephone Contact Listings

GSA/FSS-9 Cataloging Action Master File-Work Measurement

GSA/FSS-12 Accountability and Property Inventory Systems

GSA/PPFM-1

System name:

Disbursement and Accounts Payable Files.

System location:

System records are located in GSA's finance centers as follows:

• Heartland Finance Center, 1500 East Bannister Road, Kansas City, MO 64131.

• Greater Southwest Finance Center, 819 Taylor Street, Fort Worth, TX 76102.

Categories of individuals covered by the system:

Current and former employees; and contractual or appointed experts and consultants.

Categories of records in the system:

The system provides for reporting each account's status. Records may include but are not limited to name, address, telephone number, vendor identification number, and Social Security number.

Authority for maintenance of the system:

31 U.S.C. 3501 et seq.; 40 U.S.C. 311; 5 U.S.C. 3109.

Purpose:

To assemble in one system disbursement and accounts payable records to GSA employees, and on experts and consultants procured by contract or by appointment.

Routine uses of records maintained in the system, including categories of users and the purposes of such uses:

To the extent necessary, the records are available outside GSA to monitor and document adverse action proceedings and to advise on credit inquiries.

The following routine uses also apply:

a. In a legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

h. To the Office of Management and Budget in connection with reviewing private relief legislation at any stage of the coordination and clearance process.

i. To the Department of Treasury and/or banking institutions so that payments may be made by electronic funds transfer (EFT).

j. To the Department of Treasury so claims can be collected through cross servicing, Treasury Offset Program or the Centralized Salary Offset Program.

Policies and practices for storing, retrieving, accessing, retaining, and, disposing of records in the system:

Storage:

Paper records are maintained in file folders and card files stored in filing cabinets, or in electronic form in computers.

Retrievability:

Records are retrieved by name or by identifying number.

Safeguards:

Records are stored in guarded buildings and/or in areas controlled by authorized personnel. Computer files are protected by the use of passwords.

Retention and disposal:

Disposition of records is in accordance with the Handbook, GSA Records Maintenance and Disposition System (OAD P 1820.2).

System manager and address:

Director, Financial and Accounting Systems Division (BOA), Office of Finance, Office of the Chief Financial Officer, General Services Administration, 1800 F Street, NW., Washington, DC 20405.

Notification procedure:

Individuals may obtain information about whether they are part of this system of records from the system manager at the above address.

Record access procedures:

Requests to access records should be directed to the system manager at the above address. Inquiries should provide, as appropriate, full name, Social Security number, vendor number, address, telephone number, and the dates and transactions giving rise to the record. For identification requirements, refer to the agency regulations in 41 CFR part 105-64.

Contesting record procedures:

GSA rules for access to records, and for contesting the contents and appealing initial determinations are provided in 41 CFR part 105-64.

Record source categories:

The individuals themselves, employees, other agencies, management officials, and non-Federal sources such as private firms.

GSA/PPFM-3

System name:

Travel System.

System location:

The system of records is located in the General Services Administration (GSA) Central Office service and staff offices and administrative offices throughout GSA.

Persons covered by the system:

Current and former employees of GSA and of commissions, committees, and small agencies serviced by GSA, including persons other than full-time employees authorized to travel on Government business.

Type of record system:

The system provides control over the expenditure of funds for travel, relocation, and related expenses. Therefore, provisions are made to authorize travel and relocation, provide and account for advances, and to pay for travel and relocation costs. The system contains records that may include, but are not limited to, name, Social Security Number, date of birth, residence address, dependents names and ages, duty stations, itinerary and credit data in the form of credit scores (examples of credit scores are FICO, an acronym for Fair Isaac Corporation, a Beacon score, etc.) or commercial and agency investigative reports showing debtors' assets, liabilities, income, expenses, bankruptcy petitions, history of wage garnishments, repossessed property, tax liens, legal judgments on debts owed, and financial delinquencies.

Authority for maintaining the system:

5 U.S.C. 5701-5709, 5 U.S.C. 5721-5739, and Section 639 of the Consolidated Appropriations Act, 2005 (Pub. L. 108-447).

Purpose:

To assemble in one system information supporting the day-to-day operating needs associated with managing the GSA travel and relocation programs. The system includes an automated information system and supporting documents.

Routine uses of the record system, including types of users and their purposes in using the system:

System information may be accessed and used by authorized GSA employees or contractors to conduct official duties associated with the management and operation of the travel and relocation program. Information from this system also may be disclosed as a routine use:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

h. To the Office of Management and Budget in connection with reviewing private relief legislation at any stage of the coordination and clearance process.

i. To banking institutions so that travelers may receive travel reimbursements by electronic funds transfer (EFT).

j. To the Department of the Treasury regarding overseas travel allowances that are excluded from taxable income, so that reports can be compiled and submitted to the Congress.

Policies and practices for storing, retrieving, accessing, retaining, and disposing of records in the system:

Storage:

Paper records are stored in file folders, card files and cabinets; magnetic tapes and cards are stored in cabinets and storage libraries; and computer records are stored within computers and attached equipment.

Retrievability:

Paper records are filed by name. Electronic records are retrievable by name, vendor number (an identifier assigned by GSA to all payees, including companies and individuals), or Social Security Number.

Safeguards:

System records are safeguarded in accordance with the requirements of the Privacy Act, the Computer Security Act, and OMB Circular A-130. Technical, administrative, and personnel security measures are implemented to ensure confidentiality and integrity of the system data stored, processed, and transmitted. Paper records are stored in secure cabinets or rooms. Electronic records are protected by passwords and other appropriate security measures.

Disposal:

The agency disposes of the records as described in the HB, GSA Records Maintenance and Disposition System (OAD P 1820.2A and CIO P 1820.1).

System manager and address:

Director, Financial Initiative Division (BCD), Office of Finance, Office of the Chief Financial Officer, General Services Administration, 1800 F Street, NW., Washington, DC 20405.

Notification procedure:

Employees may obtain information about whether they are a part of this system of records from the system manager at the above address.

Record review procedures:

Requests from individuals for access to their records should be addressed to the system manager.

Procedure to contest a record:

GSA rules for access to systems of records, contesting the contents of systems of records, and appealing initial determinations are published at 41 CFR part 105-64.

Record sources:

The sources are individuals, other employees, supervisors, other agencies, management officials, and non-Federal sources such as private firms.

GSA/PPFM-6

System name:

Employee Credit Reports.

System location:

The system is located in the General Services Administration, Heartland Finance Center, Financial Information Control Division, 1500 East Bannister Road, Kansas City, MO 64131.

Persons covered by the system:

Present and former employees who have refused to abide by the terms of their training agreement or other employment-related contracts, and thereby have incurred a liability to the Government. When appropriate, similar information is gathered on their spouses.

Types of records in the system:

Name and address, age, number of dependents, name of employer, nature of business, position held/time held, full or part-time employment, net worth and what it consists of, annual earned income, other income, reputation, credit record, financial records, and personal history. The records are used in GSA to investigate employees who default on employment-related contracts.

Authority for maintaining the system:

31 U.S.C. 3711 (e).

Purpose:

To assemble and maintain information on individuals who are indebted to GSA and other Federal entities for the purpose of effecting enforced collections from the debtors. The information contained in the records is maintained for the purpose of taking action to facilitate collection and resolution of debts using various methods, including, but not limited to, requesting repayment of debt by telephone or in writing, pursuing offset, administrative wage garnishment, centralized salary offset, referral to collection agencies or litigation, and using other collection or resolution methods authorized or required by law. The information is also maintained for the purpose of providing collection information about the debt to other Federal entities collecting the debt, and providing statistical information on debt collection operations.

Routine uses of records maintained in the system, including types of users and the purposes of such uses:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

Policies and practices for storing, retrieving, accessing, retaining, and disposing of records in the system:

Storage:

The records for both GSA and the expert, consultant or contractor are stored on paper.

Retrievability:

The records are in alphabetical order by name.

Safeguards:

Correspondence between the GSA and the expert, consultant or contractor is kept in a locked cabinet in the Financial Information Control Division, Credit and Finance Section. Only persons given authority to do so handle this information. The contractor keeps his or her records in a secured office.

Record disposal:

The records are disposed of as scheduled in the handbook GSA Records Maintenance and Disposition System (OAD P 1820.2).

System manager and address:

Chief, Accounts Receivable Branch, Regional Finance Division, 1500 East Bannister Road, Kansas City, MO 64131.

Notification procedure:

Obtain this information from the official named above.

Procedures to access or to contest records:

See 41 CFR, part 105-64 for the procedures.

Sources of records:

Credit companies, individuals, employers/supervisors, former employers, banks, and GSA credit investigators.

GSA/PPFM-7

System name:

Credit Data on Individual Debtors.

System location:

Records are located at the following GSA Central Office and regional addresses of the GSA Office of Finance: GSA Building, 1800 F Street, NW., Washington, DC 20405, 1500 East Bannister Road, Kansas City, MO 64131, Fritz G. Lanham Federal Building, 819 Taylor Street, Fort Worth, TX 76102.

Categories of individuals covered by the system:

Individuals covered include employees, former employees, and other individuals who are indebted to GSA or any other agency or department of the United States; a State, territory or commonwealth of the United States, or the District of Columbia (hereinafter collectively referred to as “States”); or individuals that may become indebted to GSA or another agency or department of the United States as the result of a privately owned vehicle (POV) being involved in an accident with a GSA Fleet vehicle.

Categories of records in the system:

The records may contain information from commercial and agency investigative reports showing debtors' assets, liabilities, income, and expenses; identifying information, such as names and taxpayer identification numbers (TINs) (i.e., Social Security Numbers or employer identification numbers); debtor contact information, such as work and home address, and work and home telephone numbers; and name of employer and employer address. The records for claims against nongovernmental individuals (i.e., claims arising from vehicle accidents) may contain information on privately owned vehicles (POVs), including, but not limited to: (a) The owner, year, make, model, tag number and State of the vehicle; and (b) the driver's or owner's insurance company information, including name, address, telephone number and policy number. Debts include unpaid taxes, loans, assessments, fines, fees, penalties, overpayments, advances, extensions of credit from sales of goods or services, third party claims, and other amounts of money or property owed to, or collected by, GSA, any other Federal entity or a State, including past due support that is being enforced by a State.

The records also may contain information about: (a) The debt, such as the original amount of the debt, the debt account number, the date of debt origination, the amount of delinquency or default, date of delinquency or default, the basis for the debt, the amounts accrued for interest, penalties, and administrative costs; and the payments on the account; (b) actions taken to collect or resolve the debt, such as demand letters or invoices sent, documents or information required for referral of accounts to collection agencies, to other Federal entities, or for litigation, and notes taken regarding telephone or other communications related to the collection or resolution of the debt; and (c) the referring or collecting governmental entity that is collecting or is owed the debt, such as the name, telephone number, and address of the governmental entity contact.

Authorities for maintenance of the system:

5 U.S.C. 5514, 31 U.S.C.3701 and 3702, 31 U.S.C. 3711 et seq., 31 U.S.C. 6503, and 26 U.S.C. 6402.

Purpose:

The purpose of the system is to assemble and maintain information on individuals who are indebted to GSA, other Federal entities, and States for the purpose of effecting enforced collections from the debtors, including past due support enforced by States. The information contained in the records is maintained for the purpose of taking action to facilitate collection and resolution of debts using various methods, including, but not limited to, requesting repayment of debt by telephone or in writing, pursuing offset, levy, administrative wage garnishment, centralized salary offset, referral to collection agencies or litigation, and using other collection or resolution methods authorized or required by law. The information is also maintained for the purpose of providing collection information about the debt to other Federal entities or States collecting the debt, providing statistical information on debt collection operations, and testing and developing enhancements to computer systems containing the records.

Routine uses of records maintained in the system, including categories of users and their purpose for using the system:

In addition to the disclosures permitted under subsection (b) of the Privacy Act, 5 U.S.C. 552a(b), GSA may disclose information contained in this system of records without the consent of the subject individual if the disclosure is compatible with the purpose for which the record was collected under the following routine uses:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To any Federal agency where the debtor is employed or receiving some form of remuneration for the purpose of enabling that agency to collect a debt owed the Federal government on GSA's behalf. GSA may negotiate with the debtor for voluntary repayment or may initiate administrative or salary offset procedures or other authorized debt collection methods under the provisions of the Debt Collection Act of 1982, 5 U.S.C. 5514, or the Debt Collection Improvement Act of 1996, 31 U.S.C. 3701 et seq.

e. To the Office of Personnel Management (OPM), the Office of Management and Budget (OMB), or the Government Accountability Office (GAO) when the information is required for program evaluation purposes.

f. To any Federal, State or local agency, U.S. Territory or commonwealth, or the District of Columbia, or their agents or contractors, including private collection agencies (consumer and commercial):

(1) To facilitate the collection of debts through the use of any combination of various debt collection methods required or authorized by law, including, but not limited to: Requests for repayment by telephone or in writing; negotiation of voluntary repayment or compromise agreements; offsets of Federal payments, which may include the disclosure of information contained in the records for the purpose of providing the debtor with appropriate pre-offset notice and to otherwise comply with offset prerequisites, to facilitate voluntary repayment in lieu of offset, and to otherwise effectuate the offset process; referral of debts to private collection agencies, to Treasury-designated debt collection centers, or for litigation; obtaining administrative and court-ordered wage garnishment; conducting debt sales; publishing names and identities of delinquent debtors in the media or other appropriate places; creating a Centralized Salary Offset program; and pursuing any other debt collection method authorized by law.

(2) To conduct computerized comparisons to locate Federal payments to be made to debtors.

(3) To conduct authorized computer matching programs in compliance with the Privacy Act of 1974, as amended, 5 U.S.C. 552a, to identify and locate individuals receiving Federal payments (including but not limited to salaries, wages and benefits), which may include the disclosure of information contained in the records for the purpose of requesting voluntary repayment or implementing Federal employee salary offset or other offset procedures.

(4) To collect a debt owed to GSA, another Federal entity, or State through the offset of payments made by States, territories, commonwealths, or the District of Columbia.

(5) To account for or report on the status of debts for which such entity has a financial or other legitimate need for the information in the performance of official duties.

(6) To deny Federal financial assistance in the form of loans or loan guarantees to an individual who owes a delinquent debt to GSA or another Federal entity or who owes delinquent child support that has been referred to GSA for collection by administrative offset.

(7) To develop, enhance, and/or test databases, matching communications, or other computerized systems that facilitate debt collection processes.

(8) To provide assistance with any other appropriate debt collection purpose.

g. To a Member of Congress or staff on behalf of and at the request of the individual who is the subject of the record.

h. To any individual or entity:

(1) To facilitate the collection of debts through the use of any combination of various debt collection methods required or authorized by law, including, but not limited to: Pursuing administrative or court-ordered wage garnishment; reporting information to commercial credit bureaus; conducting asset searches; publishing the names and identities of delinquent debtors in the media or other appropriate places; conducting debt sales; or initiating Centralized Salary Offsets.

(2) To deny Federal financial assistance in the form of loans or loan guarantees to an individual who owes a delinquent debt to the United States or delinquent child support that has been referred to GSA for collection by administrative offset.

(3) To pursue any other appropriate debt collection purpose, such as to credit reporting agencies or credit bureaus for the purpose of adding to a credit history file or obtaining a credit history file or comparable credit information for use in debt collection. As authorized by the Debt Collection Improvement Act of 1996, 31 U.S.C. 3701 et seq., GSA may report current (not delinquent) and delinquent consumer or commercial debts to these entities to aid the collection of debts, typically by providing an incentive to the person to repay the debt in a timely manner. GSA may report on delinquent debts to the Department of Housing and Urban Development's Credit Alert Interactive Voice Response System (CAIVRS).

i. To the Internal Revenue Service and applicable State and local governments for tax reporting purposes. Under the provisions of the Debt Collection Improvement Act of 1996, 31 U.S.C. 3701 et seq., GSA is permitted to provide the Department of Treasury with Form 1099-C information on canceled or forgiven debts so that the Department of Treasury may file the form on GSA's behalf with the IRS. W-2 and 1099 Forms contain information on items to be considered as income to an individual, including payments to persons not treated as employees (e.g., fees paid to consultants and experts) and amounts written-off as legally or administratively uncollectible in whole or in part.

j. To banks enrolled in the Treasury Credit Card Network to collect a payment or debt when the individual has given his or her credit card number for this purpose.

k. To the Department of Treasury or other Federal agency with whom GSA has entered into an agreement establishing the terms and conditions for debt collection cross servicing operations on behalf of GSA to satisfy, in whole or in part, debts owed to the United States. Cross servicing includes the possible use of all debt collections tools such as administrative offset, referral to debt collection contractors, and referral to the Department of Justice.

I. To the Department of Treasury, government corporations, State or local agencies, or other Federal agencies to conduct computer matching programs for the purpose of identifying and locating individuals who are receiving Federal salaries or benefit payments and are delinquent in their repayment of debts owed to the United States under certain programs administered by the GSA in order to collect the debts under the provisions of the Debt Collection Act of 1982, as amended, 5 U.S.C. 5514, or the Debt Collection Improvement Act of 1996, 31 U.S.C. 3701 et seq., by voluntary payment or administrative or salary offset procedures.

m. To the National Archives and Records Administration (NARA) for records management purposes.

n. To or from the Department of Treasury for the purpose of allowing the GSA National Payroll Center (NPC) to participate in the Centralized Salary Offset (CSO) program, or similar offset program. Agencies must notify the Department of Treasury of all delinquent debts over 180 days past due so that recovery may be made by centralized administrative offset. This includes debts that GSA seeks to recover from the pay account of an employee of another agency by salary offset, or by another agency seeking recovery from a GSA employee, including client agency employees, by salary offset.

o. To or from another agency or department of the United States when a GSA Fleet vehicle has been involved in an accident with an individual or commercial POV. Disclosure to consumer reporting agencies: Disclosures pursuant to 5 U.S.C. 552a(b)(12) may be made from this system to consumer reporting agencies as defined in the Fair Credit Reporting Act, 15 U.S.C. 1681a(f), or the Federal Claims Collection Act of 1966, as amended, 31 U.S.C. 3701(a)(3) and 3711(e).

p. To an expert, consultant, or contractor of GSA in the performance of a Federal duty to which the information is relevant.

Policies and practices for storing, retrieving, accessing, retaining, and disposing of records in the system:

Storage:

Records are maintained in paper form in file folders stored in lockable filing cabinets and in electronic form in computers or on electronic media.

Retrievability:

Credit data is maintained by debtor name and claim number and is cross-referenced with the Social Security Number (when available) to verify name and address.

Safeguards:

When not in use by authorized personnel, records are stored in lockable filing cabinets. Electronic files are protected by the use of passwords.

Retention and disposal:

The records are a part of the GAO site auditing collection files and are cut off at the end of the fiscal year, held 1 year, and then retired under Record Group 217 (GAO). Records created prior to July 2, 1975, will be retained by GAO for 10 years and 3 months after the period of the account. Records created on or after July 2, 1975, will be retained by GAO for 6 years and 3 months after the period of the account.

System manager and address:

Branch Chief (BCDR), Financial Initiatives Division, Office of Finance, Office of the Chief Financial Officer, General Services Administration, Room 3121, 1800 F Street, NW., Washington, DC 20405.

Notification procedure:

Inquiries by individuals under the Privacy Act of 1974, as amended (5 U.S.C. 552a) regarding claims pertaining to themselves should be addressed to the system manager. All individuals making inquiries should provide as much descriptive information as possible to identify the particular record desired. The system manager will advise as to whether GSA maintains the records requested by the individual.

Record access procedures:

Requests from individuals for access to records should be addressed to the system manager and should include the individual's name and address.

Contesting records procedures:

GSA rules for contesting the contents of the records and for appealing initial determinations are promulgated in 41 CFR 105.64.

Record source categories:

Information in this system is obtained from individual debtors; credit bureaus; agency investigative reports; other GSA systems of records; Federal and State agencies to which debts are owed; Federal employing agencies and other entities that employ the individual; Federal and State agencies issuing payments; collection agencies; locator and asset search companies; Federal, State or local agencies furnishings identifying information and/or addresses of debtors; or from public documents.

GSA/PPFM-8

System name:

Comprehensive Human Resources Integrated System (CHRIS)

System location:

The record system is an Oracle web-based application used by GSA Services and Staff Offices, Presidential Boards and Commissions, and small agencies serviced by GSA, at the addresses below:

• GSA Central Office, 1800 F Street, NW., Washington, DC 20405.

• National Capital Region, 7th & D Streets, SW., Washington, DC 20407.

• New England Region, 10 Causeway Street, Boston, MA 02222.

• Northeast and Caribbean Region, 26 Federal Plaza, New York, NY 10278.

• Mid-Atlantic Region, 20 N. Eighth Street, Philadelphia, PA 19107.

• Southeast Sunbelt Region, 77 Forsyth Street, Atlanta, GA 30303.

• Great Lakes Region, 230 South Dearborn Street, Chicago, IL 60604.

• The Heartland Region, 1500 East Bannister Road, Kansas City, MO 64131.

• Greater Southwest Region, 819 Taylor Street, Fort Worth, TX 76102.

• Pacific Rim Region, 450 Golden Gate Avenue, San Francisco, CA 95102.

• NARA, 9700 Page Blvd., St. Louis, MO.

• NARA, 8601 Adelphi Road, College Park, MD 20740-6001.

• OPM, 1900 E Street, NW., Washington, DC 20415.

• OPM, 1137 Branchton Road, Boyers, PA 16020.

• RRB, 844 N. Rush, Chicago, IL 60611.

• NCUA, 1775 Duke Street, Alexandria, VA 22314.

• Export-Import Bank of the U.S., Washington, DC 20571.

Categories of individuals covered by the system:

Current and former employees of the General Services Administration, Presidential Boards and Commissions, and small agencies serviced by GSA, including persons in intern, youth employment, and work-study programs.

Categories of records in the system:

The system contains personnel and training records. The records include information collected by operating officials and personnel officials administering programs for or about employees. The system has data needed to update the Central Personnel Data File (CPDF), the Enterprise Human Resources Integration (EHRI), and the Electronic Official Personnel Folder (eOPF) at the Office of Personnel Management (OPM), as well as process and document personnel actions. It may include, but is not limited to, the data maintained in each employee's Official Personnel Folder, including:

a. Employee's name, Social Security Number, date of birth, gender, work schedule, type of appointment, education, veteran's preference, military service, and race or national origin.

b. Employee's service computation date for leave, date probationary period began, and date of performance rating.

c. Pay data such as pay plan, occupational series, grade, step, salary, and organizational location.

d. Performance rating and types and amounts of awards.

e. Position description number, special employment program, and target occupational series and grade.

f. Training records that show what classes employees have taken.

Authority for maintaining the system:

5 U.S.C., part III, is the authority for maintaining personnel information. Authorities for recording Social Security Numbers are E.O. 9397, 26 CFR 31.6011(b)2, and 26 CFR 31.6109-1.

Purpose:

To maintain a computer based information system supporting the day-to-day operating needs of human resource operations and management. The system is designed to meet information and statistical needs of all types of Government organizations and provides a number of outputs.

For the Office of the Chief People Officer, the system tracks, produces and stores personnel actions, and supplies HR data used to generate reports (organizational rosters, retention registers, retirement calculations, Federal civilian employment, length-of-service lists, award lists, etc.). It also provides reports for monitoring personnel actions to determine the impact of GSA policies and practices on minorities, women, and disabled persons, analyzing their status in the work force; and for establishing affirmative action goals and timetables. The system also provides management data for administrative and staff offices.

Routine uses of the records maintained in the system, including categories of users and the purposes of such uses:

The information in the system is used by GSA associates and designated client agency representatives in the performance of their official duties as authorized by law and regulation and for the following routine uses:

a. To disclose information to the Office of Personnel Management (OPM) for the Central Personnel Data File (CPDF) and the Enterprise Human Resources Integration (EHRI).

b. To disclose information to sources outside GSA, including other agencies and persons; for employees seeking employment elsewhere; and for documenting adverse actions, conducting counseling sessions, and preparing biographical sketches on employees for release to other agencies and persons.

c. To disclose information in the personnel file to GSA's Office of the Chief People Officer.

d. To disclose information to agency staff and administrative offices who may restructure the data for management purposes.

e. In any legal proceeding, where pertinent, to which GSA is a party before a court or administrative body.

f. To authorized officials engaged in investigating or settling a grievance, complaint, or appeal filed by an individual who is the subject of the record.

g. To a Federal agency in connection with the hiring or retention of an employee; the issuance of a security clearance; the reporting of an investigation; the letting of a contract; or the issuance of a grant, license, or other benefit to the extent that the information is relevant and necessary to a decision.

h. To the Office of Personnel Management (OPM), the Office of Management and Budget (OMB), or the Government Accountability Office (GAO) when the information is required for program evaluation purposes.

i. To a Member of Congress or staff on behalf of and at the request of the individual who is the subject of the record.

j. To an expert, consultant, or contractor of GSA in the performance of a Federal duty to which the information is relevant.

k. To the National Archives and Records Administration (NARA) for records management purposes.

Policies and practices for storing, retrieving, reviewing, retaining, and disposing of records in the system:

Storage:

Computer records are stored on a secure server and accessed over the web using encryption software. Paper records, when created, are kept in file folders and cabinets in secure rooms.

Retrievability:

Records are retrieved by name, Social Security Number, or Employee ID.

Safeguards:

Computer records are protected by a password system. Paper output is stored in locked metal containers or in secured rooms when not in use. Information is released to authorized officials based on their need to know.

Retention and disposal:

Records are disposed of by shredding or burning as scheduled in the handbook, GSA Records Maintenance and Disposition System (OAD P 1820.2).

System manager and address:

CHRIS Program Manager (CID), Office of the Chief Information Officer, Office of the Chief People Officer, General Services Administration, 1800 F Street, NW., Washington, DC 20405.

Notification procedure:

Address inquiries to: Director of Human Resources Services (CP), Office of the Chief People Officer, General Services Administration, 1800 F Street, NW., Washington, DC 20405; or, for regional personnel records, to the regional Human Resources Officer at the addresses listed above under System Location.

Contesting record procedures:

Rules for contesting the content of a record and appealing a decision are contained in 41 CFR 105-64.

Record source categories:

The sources for the system information are the individuals themselves, other employees, supervisors, management officials, officials of other agencies, and record systems GSA/HRO-37, OPM/GOVT-1, and EEOC/GOVT-1.

GSA/PPFM-9

System name:

Payroll Accounting and Reporting (PAR) System.

System location:

The record system is located in the General Services Administration (GSA) Heartland Finance Center in Kansas City, Missouri; in commissions, committees and small agencies serviced by GSA; and in administrative offices throughout GSA. Data is stored in an Oracle database (ORA2) on the HFC1 server. The operational functionality of PAR is managed and utilized by the GSA Heartland Finance Center's National Payroll Center (NPC) in Kansas City.

Persons covered by the system:

Those covered are present and former employees of GSA and of commissions, committees, and small agencies serviced by GSA; and persons in intern, youth employment, and work/study programs.

Type of record system:

PAR provides complete functionality for an employee's entire service life from initial hire through final payment and submission of retirement records to the Office of Personnel Management (OPM). The system holds payroll records, and includes information received by operating officials as well as personnel and finance officials administering their program areas, including information regarding nonsupport of dependent children. The system also contains data needed to perform detailed accounting distributions, provide for tasks such as mailing checks and bonds, and preparing and mailing tax returns and reports. The record system may contain:

a. Employee's name, Social Security Number, date of birth, sex, work schedule, and type of appointment.

b. Service computation date for assigning leave, occupational series, position, grade, step, salary, award amounts, and accounting distribution.

c. Time, attendance, and leave; Federal, State, and local tax; allotments; savings bonds; and other pay allowances and deductions.

d. Tables of data for editing, reporting, and processing personnel and pay actions, which include nature-of-action code, organization table, and salary table.

e. Information regarding court-ordered payments to support dependent children, including amounts in arrears.

Authority for maintaining the system:

5 U.S.C. Part III, Subparts D and E, 26 U.S.C. Chapter 24 and 2501, and E.O. 9397.

Purpose:

To maintain automated information system to support the day-to-day operating needs of the payroll program. The system can provide payroll statistics for all types of Government organizations, and allows many uses for each data element entered. The system has a number of outputs:

For the payroll office, outputs include comprehensive payroll reports; accounting distribution of costs; leave data summary reports; each employee's statement of earnings, deductions, and leave every payday; State, city, and local unemployment compensation reports; Federal, State, and local tax reports; Forms W-2, Wage and Tax Statement; and reports of withholding and contributions.

For the Office of Human Resources Services, outputs include data for reports of Federal civilian employment. The system also provides data to GSA staff and administrative offices to use for management purposes.

Routine uses of the record system, including types of users and their purpose in using the system:

a. To disclose information to a Federal, State, local, or foreign agency responsible for investigating, prosecuting, enforcing, or carrying out a statute, rule, regulation, or order, where the agency becomes aware of a violation or potential violation of civil or criminal law or regulation.

b. To disclose requested information to a court or other authorized agency regarding payment or nonpayment of court-ordered support for a dependent child.

c. To disclose information to Congressional staff in response to a request from the person who is the subject of the record.

d. To disclose information to an expert, consultant, or contractor of the agency for performing a Federal duty.

e. To disclose information to a Federal, State, or local agency maintaining civil, criminal, enforcement, or other information to obtain information needed to make a decision on hiring or retaining an employee; issuing a security clearance; letting a contract; or issuing a license, grant, or other benefit.

f. To disclose requested information to a Federal agency in connection with hiring or retaining an employee; issuing a security clearance; reporting an employee investigation; or clarifying a job.

g. To disclose information to an appeal, grievance, or formal complaints examiner; equal employment opportunity investigator; arbitrator; union official or other official engaged in investigating or settling a grievance, complaint, or appeal filed by an employee.

h. To disclose information to the Office of Management and Budget for reviewing private relief legislation at any stage of the clearance process.

i. To provide a copy of the Department of the Treasury Form W-2, Wage and Tax Statement, to the State, city, or other local jurisdiction that is authorized to tax the employee's compensation. The record is provided by a withholding agreement between the State, city, or other local jurisdiction and the Department of the Treasury under 5 U.S.C. 5516, 5517, and 5520.

j. To disclose information to the Office of Human Resources Services in reporting civilian employment.

k. To disclose information to agency administrative offices who may restructure the data for management purposes.

Policies and practices for storing, retrieving, accessing, retaining, and disposing of records in the system:

Storage:

Paper records are kept in file folders, within locked power files; microfiches in cabinets; and computer records within a computer and attached equipment. All paper records are secured with the National Payroll Center (NPC), which is a secured area at the GSA NPC in Kansas City, Missouri.

Retrieval:

Records are filed by name or Social Security Number at each location.

Safeguards:

Records are stored in locked power files, within the NPC in Kansas City, when not in use by an authorized person. Electronic records are protected by a password system. The NPC is a secured access facility.

Disposal:

The Heartland Finance Center disposes of the records by shredding or burning, as scheduled in the handbook GSA Records Maintenance and Disposition System (OAD P 1820.2).

System manager and address:

Director, National Payroll Center, General Services Administration (6BCY), 1500 East Bannister Road, Kansas City, MO 64131.

Notification procedure:

An individual inquiry should be addressed to the system manager.

Record review procedures:

An individual request should be addressed to the 33 system manager. Furnish full name, Social Security Number, address, telephone number, approximate dates and places of employment, and nature of the request.

Procedure to contest a record:

GSA rules for contesting the content of a record and appealing an initial decision are in 41 CFR part 105-64.

Record sources:

The sources are the individuals themselves, other employees, supervisors, officials of other agencies, State governments, record systems GSA/ HRO-37, OPM/GOVT-1, EEOC/GOVT-1, and private firms.

GSA/PPFM-10

System Name:

Purchase Card Program.

System location:

System records are maintained by the Office of Finance, General Services Administration (GSA), at 1800 F Street, NW., Washington, DC 20405, and by designated purchase card coordinators' offices in GSA regions. Contact the System Manager for additional information.

Persons covered by the system:

The system includes employees of GSA, and of independent offices and commissions serviced by GSA, who qualify to use Federal Government charge cards for making authorized purchases for official business.

Type of record system:

The system provides control over expenditure of funds through the use of Federal Government purchase cards. System records include:

a. Personal information on charge card users, including names, home or business telephone numbers and addresses, Social Security Numbers, date of birth, employment information, and credit data in the form of credit scores (examples of credit scores are FICO, an acronym for Fair Isaac Corporation, a Beacon score, etc.) or commercial and agency investigative reports showing debtors' asset, liabilities, income, expenses, bankruptcy petitions, history of wage garnishments, repossessed property, tax liens, legal judgments on debts owed, and financial delinquencies; and

b. Account processing and management information, including charge card transactions, contractor monthly reports showing charges to individual account numbers, account balances, and other data needed to authorize, account for, and pay authorized purchase card expenses.

Authority for maintaining the system:

41 U.S.C. 252a, 252b, 427, 428; E.O. 12931, and Section 639 of the Consolidated Appropriations Act, 2005 (Pub. L. 108-447).

Purpose:

To establish and maintain a system for operating, controlling, and managing the purchase card program involving commercial purchases by authorized Government employees.

Routine uses of the record system, including types of users and their purposes in using the system:

System information may be accessed and used by authorized GSA employees or contractors to conduct official duties associated with the management and operation of the purchase card program. Information from this system also may be disclosed as a routine use:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

h. To the GSA Office of Finance for debt collection purposes (see GSA/PPFM-7).

Policies and practices for storing, retrieving, accessing, retaining, and disposing of records in the system:

Storage:

Information may be collected on paper or electronically and may be stored on paper or on electronic media, as appropriate.

Retrieval:

Records are retrievable by a personal identifier or by other appropriate type of designation approved by GSA.

Safeguards:

System records are safeguarded in accordance with the requirements of the Privacy Act, the Computer Security Act, and OMB Circular A-130. Technical, administrative, and personnel security measures are implemented to ensure confidentiality and integrity of the system data stored, processed, and transmitted. Paper records are stored in secure cabinets or rooms. Electronic records are protected by passwords and other appropriate security measures.

Disposal:

Disposition of records is according to the National Archives and Records Administration (NARA) guidelines, as set forth in the handbook, GSA Records Maintenance and Disposition System (OAD P 1820.2A and cia P 1820.1), and authorized GSA records schedules.

System manager and address:

Director, Financial Initiative Division (BCD), Office of Finance, Office of the Chief Financial Officer, General Services Administration, 1800 F Street, NW., Washington, DC 20405.

Notification procedure:

A Privacy Act Statement on the purchase card data collection form notifies individuals of the purpose and uses of the information they provide. Employees may obtain information about whether they are a part of this system of records from the system manager at the above address.

Record review procedures:

Requests from individuals for access to their records should be addressed to the system manager.

Procedure to contest a record:

GSA rules for access to systems of records, contesting the contents of systems of records, and appealing initial determinations are published at 41 CFR part 105-64.

Record sources:

Information is obtained from individuals submitting charge card applications, monthly contractor reports, purchase records, managers, other agencies, non-Federal sources such as private firms, and other agency systems containing information pertaining to the purchase card program.

GSA/OEA-1

System name:

Records of Defunct Agencies.

Location:

The system of records is located in the GSA regional office building, 7th & D Streets, SW., Washington, DC 20407, and at the GSA National Payroll Center, 6BCY, 1500 E. Bannister Road, Kansas City, MO 64131-3088.

Categories of individuals covered by the system:

Employees of defunct agencies, including but not limited to, presidential commissions, committees, small agencies, and boards, whose records the GSA services under a reimbursable agreement.

Categories of records in the system:

Payroll and financial records, including but not limited to, time and attendance cards, payment vouchers, employee health benefit records, requests for deductions, tax forms, including W-2 forms, overtime requests, leave data, retirement records, and vendor register and payment tapes.

Authority for maintaining the system:

5 U.S.C. Part III, Subparts D and E, 26 U.S.C. Chapter 24 and 3501, E.O. 9397, and 31 U.S.C. 1531.

Purpose:

To notify the public of the routine use and storage of payroll, personnel and financial records stored by GSA for defunct agencies that are sensitive in nature.

Routine uses of the records in the system, including types of users and the purposes of the uses:

The GSA uses the records for concluding the administrative operations of the defunct agency. Routine uses include providing a copy of an employee's Department of the Treasury Form W-2, and Wage and Tax Statement, to the State, city, or other local jurisdiction that has authority to tax the employee's pay. The agency also provides a record under a withholding agreement between a State, city, or other jurisdiction and the Department of the Treasury under 5 U.S.C. 5516, 5517, and 5520, or in response to the written request of an authorized official of the taxing jurisdiction to the Director, GSA National Payroll Center (6BCY), 1500 East Bannister Road, Kansas City, MO 64131-3088. The request must include a copy of the statute or ordinance showing the authority of the jurisdiction to tax the employee based on place of residence, place of employment, or both.

Under a withholding agreement between a city and the Department of the Treasury (5 U.S.C. 5520), the GSA furnishes copies of executed city tax withholding certificates to the city in response to a written request from the proper city official to the GSA official named in the paragraph above.

Records are also released to the Government Accountability Office for audits and to the Internal Revenue Service for use in investigations. Additional routine uses are:

a. To disclose a record to the appropriate Federal, State, or local agency responsible for investigating, prosecuting, enforcing, or implementing a statute, rule, or regulation, or order, where the GSA becomes aware of an indication of a violation, or potential violation of a civil or criminal law or regulation.

b. In any legal proceeding, where pertinent, to which GSA is a party before a court or administrative body.

c. To authorized officials engaged in investigating or settling a grievance, complaint, or appeal filed by an individual who is the subject of the record.

d. To a Federal agency in connection with the hiring or retention of an employee; the issuance of a security clearance; the reporting of an investigation; the letting of a contract; or the issuance of a grant, license, or other benefit to the extent that the information is relevant and necessary to a decision.

e. To the Office of Personnel Management (OPM), the Office of Management and Budget (OMS), or the Government Accountability Office (GAO) when the information is required for program evaluation purposes.

f. To an expert, consultant, or contractor of GSA in the performance of a Federal duty to which the information is relevant and a physician to conduct a fitness-for-duty examination of a GSA officer or employee.

g. To disclose a record to the OPM concerning pay, benefits, retirement deductions, and other information needed under that agency's responsibility to evaluate Federal personnel management.

h. To the National Archives and Records Administration (NARA) for records management purposes.

To the extent that official personnel records in the GSA's custody are covered 40 within systems of records published by the OPM as Government-wide records, the records are considered part of the Government-wide system. Other personnel records covered by notices published by the GSA and considered to be separate systems of records may be transferred to the OPM under personnel programs as a routine use.

Policies and practices for storing, retrieving, accessing, retaining, and disposing of records in the system:

Storage:

Paper records are in file folders and card files. Microfiche records on microfiche sheets are stored in cabinets. CD-ROMs and floppy disks are stored in file cabinets.

Retrievability:

Payroll records are retrievable by social security number and other records by name.

Safeguards:

When not in use by an authorized person, the records are stored in locked metal containers or in secured rooms.

Retention and disposal:

The Division Director of the Agency Liaison Division disposes of the records as scheduled in the handbook, GSA Records Maintenance and Disposition System (OAD P 1820.2).

System manager and address:

The system managers are the Director, Agency Liaison Division (WB-E), General Services Administration, 7th & D Streets, SW., Washington, DC 20407 and the GSA National Payroll Center, 6BCY, 1500 E. Bannister Road, Kansas City, MO 64131-3088.

Notification procedure:

Requests to review or receive a copy of a record should be sent to the system manager named above.

Record access procedure:

See 41 CFR part 105-64, published in the Federal Register, for the procedures. Address your written request to review or copy records to the system manager, with the words “Privacy Act Request” written on the letter and on the envelope.

Contesting record procedure:

See 41 CFR part 105-64.

Record sources:

When it shuts down, the agency that the GSA services, publishes a notice in the Federal Register transferring administrative responsibility for the records to the GSA.

GSA/REGADM-4

System name:

Official Correspondence Files.

System location:

The system is located in the offices of the Regional Administrators listed below.

New England Region (R1), Office of the Regional Administrator (1A), Room 1008, 10 Causeway Street, Boston, MA 02222.

Southeast Sunbelt Region (R4), Office of the Regional Administrator (4A), 77 Forsyth Street, Atlanta, GA 30303.

The Heartland Region (R6), Office of the Regional Administrator (6A), 1500 East Bannister Road, Kansas City, MO 64131.

Greater Southwest Region (R7), Office of the Regional Administrator (7A), 819 Taylor Street, Fort Worth, TX 76102.

Rocky Mountain Region (R8), Office of the Regional Administrator (8A), Building 41, Denver Federal Center, Denver CO 80225-0006.

Pacific Rim Region (R9), Office of the Regional Administrator (9A), 450 Golden 42 Gate Avenue, San Francisco, CA 94102-3400.

Northwest/Arctic Region (R10), Office of the Regional Administrator (10A), 400 15th Street SW., Auburn, WA 98001.

Individuals covered by the system:

The individuals are those who correspond with the Regional Administrators regarding savings bond campaigns, employees receiving letters of appreciation or commendation, Members of Congress, mayors and their staffs, and other persons.

Types of records in the system:

The records are incoming letters, background material, and outgoing letters to the persons named in the system. The system serves as a record and reference source of correspondence in the offices of the Regional Administrators.

Authority for maintenance of the system:

The authority for maintaining the system comes from Title 5, U.S.C., section 301.

Routine uses of the records in the system, including the types of users and their purposes in using the system:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the U.S. Department of Justice or in a proceeding before a court or adjudicative body when:

1. GSA, including any component or employee being represented by GSA or the U.S. Department of Justice, has an interest in the litigation or proceeding;

2. GSA deems disclosure necessary and relevant to the nature of the proceedings; and

3. GSA determines that disclosure is compatible with the purpose for which the record was compiled.

e. To the Office of Personnel Management (OPM), the Office of Management and Budget (OMB), or the Government Accountability Office (GAO) when the information is required for program evaluation purposes.

f. To a Member of Congress or staff on behalf of and at the request of the individual who is the subject of the record.

g. To an expert, consultant, or contractor of GSA in the performance of a Federal duty to which the information is relevant.

h. To the National Archives and Records Administration (NARA) for records management purposes.

Policies and practices for storing, retrieving, accessing, retaining, and disposing of system records:

Storage:

Paper records are kept in file folders; electronic records are stored in computers and attached equipment.

Retrieval:

Records are filed alphabetically by name of person or firm.

Safeguards:

Access is limited to the Regional Administrator and staff who have a need to know.

Retention and disposal:

The schedules in the handbook, GSA Records Maintenance and Disposition System (GAD P 1820.2A), govern the disposal of the records.

System managers and addresses:

The officials responsible for the record system are the Regional Administrators at the addresses given at the beginning of this notice.

Notification procedure:

A requester may learn whether the system contains a record on him-or herself from the Regional Administrators at the addresses given above.

Record access procedure:

A request to view a record must be addressed to the Regional Administrator at one of the addresses given above.

Contesting record procedure:

For GSA rules to contest the content of a record or to appeal a denial of a request to amend a record, see 41 CFR part 105-64, published in the Federal Register.

Record sources:

The sources are the correspondence and related records.

GSA/FSS-13

System Name:

Personal Property Sales Program.

System Location:

System records are maintained by the General Services Administration (GSA) at several locations. A complete list of the locations is available from the System Manager.

Individuals Covered By The System:

The system will include those individuals 45 who request to be added to GSA bidders' mailing lists, register to bid on GSA sales, and enter into contracts to buy Federal personal property at sales conducted by GSA.

Records In The System:

The system contains information needed to identify potential and actual bidders and awardees, and transaction information involving personal property sales. System records include:

a. Personal information provided by bidders and buyers, including names, phone numbers, addresses, Social Security Numbers, and credit card numbers or other banking information; and

b. Contract information on Federal personal property sales, including whether payment was received, the form of the payment, notices of default, and contract claim information.

Authority For Maintaining The System:

40 U.S.C. 121 (c) and 40 U.S.C. 541, et seq.

Purpose:

To establish and maintain a system of records for conducting public sales of Federal personal property by GSA.

Routine Uses Of The System Records, Including Categories Of Users And Their Purposes For Using The System:

System information may be accessed and used by authorized GSA employees or contractors to prepare for and conduct personal property sales, administer sales contracts, perform oversight or maintenance of the GSA electronic systems and, when necessary, for sales contract litigation or non-procurement suspension or debarment purposes.

Information from this system also may be disclosed as a routine use:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or his or her staff on behalf of and at the request of the individual who is the subject of the record.

f. To an expert, consultant, or contractor of GSA in the performance of a Federal duty to which the information is relevant.

g. To the GSA Office of Finance for debt collection purposes (see GSA/PPFM-7).

h. To the National Archives and Records Administration (NARA) for records management purposes.

Policies and practices for storing, retrieving, accessing, retaining, and disposing of system records:

Storage:

Information may be collected on paper or electronically and may be stored on paper or on electronic media, as appropriate.

Retrievability:

Records are retrievable by a personal identifier or by other appropriate type of designation approved by GSA.

Safeguards:

System records are safeguarded in accordance with the requirements of the Privacy Act, the Computer Security Act, and OMB Circular A-130. Technical, administrative, and personnel security measures are implemented to ensure confidentiality and integrity of the system data stored, processed, and transmitted. Paper records are stored in secure cabinets or rooms. Electronic records are protected by passwords and other appropriate security measures.

Retention and disposal:

Disposition of records is according to the National Archives and Records Administration (NARA) guidelines, as set forth in the handbook, GSA Records Maintenance and Disposition System (OAD P 1820.2), and authorized GSA records schedules.

System manager and address:

Director, Property Management Division (FBP), Federal Supply Service, General Services Administration, 2200 Crystal Drive, Crystal Plaza 4, Arlington, VA 22202.

Notification procedure:

Individuals may submit a request on whether a system contains records about them to the system manager at the above address.

Record access procedures:

Requests from individuals for access to their records should be addressed to the system manager.

Contesting record procedures:

GSA rules for access to systems of records, contesting the contents of systems of records, and appealing initial determinations are published in the Federal Register, 41 CFR part 105-64.

Record source categories:

Information is provided by individuals who wish to participate in the GSA personal property sales program, and system transactions designed to gather and maintain data and to manage and evaluate the Federal personal property disposal program.

GSA/Childcare-1

System name:

Child Care Subsidy.

System location:

This system of records is maintained by the Office of the Chief People Officer (C), 1800 F Street, NW., Washington, DC.

Categories of individuals covered by the system:

The individuals in the system are employees of the General Services Administration who voluntarily apply for child care subsidies.

Categories of records in the system:

Application forms for child care subsidy containing personal information, including employee (parent) name, Social Security Number, grade, home and work numbers addresses, telephone numbers, total income, number of dependent children, and number of children on whose behalf the parent is applying for a subsidy; information on child care providers used, including name, address, provider license number and State where issued, tuition cost, and provider tax identification number; and copies of IRS Form 1040 and 1040A for verification purposes.

Authority for maintenance of the system:

Pub. L. 106-58 and E.O. 9397.

Purpose:

To establish and verify GSA employees' eligibility for child care subsidies in order for GSA to provide monetary assistance to its employees.

Routine uses of records maintained in the system, including categories of users and the purposes of such uses:

Information from this system may be disclosed as a routine use:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; of the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

Policies and practices for storing, retrieving, accessing, retaining, and disposing of records in the system:

Storage:

Information may be collected on paper or electronically and may be stored as paper forms or on computers.

Retrievabillity:

By name; may also be cross-referenced to Social Security Number.

Safeguards:

When not in use by an authorized person, paper records are stored in lockable metal file cabinets or secured rooms. Electronic records are protected by the use of passwords.

Retention and disposal:

Disposition of records is according to the National Archives and Records Administration (NARA) guidelines, as set forth in the handbook, GSA Records Maintenance and Disposition System (OAD P 1820.2) and authorized GSA records schedules.

System manager and address:

Office of the Chief People Officer (C), Office of Human Capital Management (CH), General Services Administration, 1800 F Street, NW., Washington, DC 20405.

Notification procedure:

Individuals may submit a request on whether a system contains records about them to: Office of the Chief People Officer (C), General Services Administration, 1800 F Street, NW., Washington, DC 20405.

Record access procedures:

Requests from individuals for access to their records should be addressed to the system manager.

Contesting record procedures:

GSA rules for access to systems of records, contesting the contents of systems of records, and appealing initial determinations are published in the Federal Register, 41 CFR part 105-64.

Record source categories:

Information is provided by GSA employees who apply for child care subsidies. Furnishing of the information is voluntary.

GSA/Transit-1

System name:

Transportation Benefits Records.

System location:

System records are maintained by the Office of the Chief People Officer (C), 1800 F Street, NW., Washington, DC 20405; and by each of GSA's regional offices.

Categories of individuals covered by the system:

Employees applying for transit subsidies for use of public transportation and van pools to and from the workplace.

Categories of records in the system:

Record categories may include name, home address, Social Security Number, work organization and location, mode of transportation, and commuting costs.

Authority for maintenance of the system:

E.O. 13150; 26 U.S.C. 132(f); and Federal Employees Clean Air Incentives Act (section 2(a) of Pub. L. 103-172, found at 5 U.S.C. 7905), as amended.

Purpose:

To establish and maintain systems for providing transportation fringe benefits to employees who use mass transportation to commute to and from work.

Routine uses of records maintained in the system, including categories of users and the purpose of such uses:

System information is used to determine the eligibility of applicants for transportation benefits and to disburse benefits to eligible employees through the Department of Transportation. Information also may be disclosed as a routine use:

a. In any legal proceeding, where pertinent, to which GSA is a party before a court or administrative body.

b. To authorized officials engaged in investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the Office of Personnel Management (OPM), the Office of Management and Budget (OMB), or the Government Accountability Office (GAO) when the information is required for program evaluation purposes.

e. To a Member of Congress or staff on behalf of and at the request of the individual who is the subject of the record.

f. To an expert, consultant, or contractor of GSA in the performance of a Federal duty to which the information is relevant.

g. To the National Archives and Records Administration (NARA) for records management purposes.

Policies and practices for storing, retrieving, accessing, retaining, and disposing of records in the system:

Storage:

System records are stored electronically and on paper.

Retrievability:

Records may be retrieved by name, Social Security Number, or other identifier in the system.

Safeguards:

Records are safeguarded in accordance with the Privacy Act and the Computer Security Act. Technical, administrative, and personnel security measures ensure confidentiality and integrity of system data. Access is limited to 53 authorized individuals.

Retention and disposal:

Applications will be maintained for as long as the applicant is an eligible participant in the subsidy program. System records are retained and disposed of according to GSA records maintenance and disposition schedules and the requirements of the National Archives and Records Administration (NARA).

System manager and address:

Office of the Chief People Officer (C), Office of Human Capital Management (CH), General Services Administration, 1800 F Street, NW, Washington, DC 20405.

Notification procedures:

Inquiries should be directed to the system manager at the above address.

Record access procedures:

Requests for access to records should be directed to the system manager. GSA rules for accessing records under the Privacy Act are provided in 41 CFR part 105-64.

Record contesting procedures:

Requests to correct records should be directed to the system manager. GSA rules for contesting record contents and for appealing determinations are provided in 41 CFR part 105-64.

Record source categories:

Sources for information in the system are: employees submitting applications for transit subsidies.

GSA/GOVT-4

System name:

Contracted Travel Services Program.

System location:

System records are located at the service providers under contract with a Federal agency and at the Federal agencies using the contracts.

Categories of individuals covered by the system:

Individuals covered by the system are Federal employees authorized to perform official travel, and individuals being provided travel by the Federal government.

Categories of records in the system:

System records include a traveler's profile containing: name of individual; Social Security Number; employee identification number; home and office telephones; home address; home and office e-mail addresses; emergency contact name and telephone number; agency name, address, and telephone number; air travel preference; rental car identification number and car preference; hotel preference; current passport and/or visa number(s); credit card numbers and related information; bank account information needed for electronic funds transfer; frequent traveler account information (e.g., frequent flyer account numbers); trip information (e.g., destinations, reservation information); travel authorization information; travel claim information; monthly reports from travel agent(s) showing charges to individuals, balances, and other types of account analyses; and other official travel related information.

Authorities for maintenance of the system:

31 U.S.C. 3511, 3512, and 3523; 5 U.S.C. Chapter 57; and implementing Federal Travel Regulations (41 CFR parts 300-304).

Purpose:

To establish a comprehensive beginning-to-end travel services system containing information to enable travel service providers under contract to the Federal government to authorize, issue, and account for travel and travel reimbursements provided to individuals on official Federal government business.

Routine uses of records maintained in the system, including categories of users and the purposes of such uses: Information in the system may be disclosed as a routine use as follows:

a. To a Federal, State, local, or foreign agency responsible for investigating, prosecuting, enforcing, or carrying out a statute, rule, regulation, or order, where agencies become aware of a violation or potential violation of civil or criminal law or regulation.

b. To another Federal agency or a court when the Federal government is party to a judicial proceeding.

c. To a Member of Congress or staff on behalf and at the requests of the individual who is the subject of the record.

d. To a Federal agency employee, expert, consultant, or contractor in performing a Federal duty for purposes of authorizing, arranging, and/or claiming reimbursement for official travel, including, but not limited to, traveler profile information.

e. To a credit card company for billing purposes, including collection of past due amounts.

f. To an expert, consultant, or contractor in the performance of a Federal duty to which the information is relevant.

g. To a Federal agency by the contractor in the form of itemized statements or invoices, and reports of all transactions, including refunds and adjustments to enable audits of charges to the Federal government.

h. To a Federal agency in connection with the hiring or retention of an employee; the issuance of a security clearance; the reporting of an investigation; the letting of a contract; or the issuance of a grant, license, or other benefit to the extent that the information is relevant and necessary to a decision.

i. To an authorized appeal or grievance examiner, formal complaints examiner, equal employment opportunity investigator, arbitrator, or other duly authorized official engaged in investigation or settlement of a grievance, complaint, or appeal filed by an employee to whom the information pertains.

j. To the Office of Personnel Management (OPM), the Office of Management and Budget (OMB), or the Government Accountability Office (GAO) when the information is required for program evaluation purposes.

k. To officials of labor organizations recognized under 5 U.S.C. chapter 71 when relevant and necessary to their duties of exclusive representation concerning personnel policies, practices, and matters affecting working conditions.

l. To a travel services provider for billing and refund purposes.

m. To a carrier or an insurer for settlement of an employee claim for loss of or damage to personal property incident to service under 31 U.S.C. 3721, or to a party involved in a tort claim against the Federal government resulting from an accident involving a traveler.

n. To a credit reporting agency or credit bureau, as allowed and authorized by law, for the purpose of adding to a credit history file when it has been determined that an individual's account with a creditor with input to the system is delinquent.

o. Summary or statistical data from the system with no reference to an identifiable individual may be released publicly.

p. To the National Archives and Records Administration (NARA) for records management purposes.

Policies and practices for storing, retrieving, reviewing, retaining, and disposing of records in the system:

Storage:

Paper records are stored in file cabinets. Electronic records are maintained within a computer (e.g., PC, server, etc.) and attached equipment.

Retrievability:

Paper records are filed by a traveler's name and/or Social Security Number/employee identification number at each location. Electronic records are retrievable by any attribute of the system.

Safeguards:

Paper records are stored in lockable file cabinets or secured rooms. Electronic records are protected by a password system and a FIPS 140-2 compliant encrypted Internet connection. Information is released only to authorized users and officials on a need-to-know basis.

Retention and disposal:

Records kept by a Federal agency are maintained in accordance with the General Records Retention Schedules issued by the National Archives and Records Administration (NARA).

System manager and address:

Assistant Commissioner, Office of Transportation and Property Management (FB), Federal Acquisition Service, General Services Administration, Room 300, 2200 Crystal Drive, Arlington, VA 20406.

Notification procedure:

Inquiries from individuals should be addressed to the appropriate administrative office for the agency that is authorizing and/or reimbursing their travel.

Records access procedures:

Requests from individuals should be addressed to the appropriate administrative office for the agency that is authorizing and/or reimbursing their travel. Individuals must furnish their full name and/or Social Security Number to the authorizing agency for their records to be located and identified.

Contesting record procedures:

Individuals wishing to request amendment of their records should contact the appropriate administrative office for the agency that authorized and/or reimbursed their travel. Individuals must furnish their full name and/or Social Security Number along with the name of the authorizing agency, including duty station where they were employed at the time travel was performed.

Record source categories:

The sources are the individuals themselves, employees, travel authorizations, credit card companies, and travel service providers.

[FR Doc. 06-7003 Filed 8-18-06; 8:45 am]

BILLING CODE 6820-34-M